DEPARTMENT OF ENERGY

Federal Energy Regulatory Commission

Combined Notice of Filings #1

Take notice that the Commission received the following electric rate filings:

Docket Numbers: ER12-1296-001.

Applicants: ResCom Energy LLC.

Description: Notice of Material Change in Status of ResCom Energy LLC.

Filed Date: 11/24/15.

Accession Number: 20151124-5127.

Comments Due: 5 p.m. ET 12/15/15.

Docket Numbers: ER12-1355-003.

Applicants: Iron Energy LLC.

Description: Notice of Material Change in Status of Iron Energy LLC.

Filed Date: 11/24/15.

Accession Number: 20151124-5120.

Comments Due: 5 p.m. ET 12/15/15.

Docket Numbers: ER14-209-002.

Applicants: PowerOne Corporation.

Description: Notice of Material Change in Status of PowerOne Corporation.

Filed Date: 11/24/15.

Accession Number: 20151124-5124.

Comments Due: 5 p.m. ET 12/15/15.

Docket Numbers: ER14-2751-002.

Applicants: Xcel Energy Southwest Transmission Company, LLC.

Description: Response to September 22, 2015 Deficiency Letter of Xcel Energy Southwest Transmission Company, LLC.

Filed Date: 11/23/15.

Accession Number: 20151123-5362.

Comments Due: 5 p.m. ET 12/14/15.

Docket Numbers: ER14-2752-002.

Applicants: Xcel Energy Transmission Development Company, LLC.

Description: Response to September 22, 2015 Deficiency Letter of Xcel Energy Transmission Development Company, LLC.

Filed Date: 11/23/15.

Accession Number: 20151123-5364.

Comments Due: 5 p.m. ET 12/14/15.

Docket Numbers: ER15-2631-003.

Applicants: Odell Wind Farm, LLC.

Description: Supplement to September 9, 2015 and October 19, 2015 Odell Wind Farm, LLC tariff filings.

Filed Date: 11/23/15.

Accession Number: 20151123-5225.

Comments Due: 5 p.m. ET 12/7/15.

Docket Numbers: ER16-368-001.

Applicants: Shelby County Energy Center, LLC.

Description: Tariff Amendment: Amendment to Market-Based Rate Tariff to be effective 12/31/9998.

Filed Date: 11/23/15.

Accession Number: 20151123-5297.

Comments Due: 5 p.m. ET 12/14/15.

Docket Numbers: ER16-383-000.

Applicants: Midcontinent Independent System Operator, Inc.

Description: § 205(d) Rate Filing: 2015-11-24_SA 2871 NSP-North Star Solar GIA (J385) to be effective 11/25/2015.

Filed Date: 11/24/15.

Accession Number: 20151124-5151.

Comments Due: 5 p.m. ET 12/15/15.

Docket Numbers: ER16-384-000.

Applicants: Mulberry Farm, LLC.

Description: Compliance filing: Compliance Filing—Removal of Affiliate Waiver to be effective 11/1/2015.

Filed Date: 11/24/15.

Accession Number: 20151124-5165.

Comments Due: 5 p.m. ET 12/15/15.

Docket Numbers: ER16-385-000.

Applicants: ITC Interconnection LLC.

Description: Baseline eTariff Filing: Facilities Reimbursement Agreement to be effective 1/24/2016.

Filed Date: 11/24/15.

Accession Number: 20151124-5170.

Comments Due: 5 p.m. ET 12/15/15.

Docket Numbers: ER16-386-000.

Applicants: Arizona Public Service Company.

Description: § 205(d) Rate Filing: Rate Schedule No. 249—Round Valley Agreement to be effective 1/24/2016.

Filed Date: 11/24/15.

Accession Number: 20151124-5176.

Comments Due: 5 p.m. ET 12/15/15.

Docket Numbers: ER16-387-000.

Applicants: Midcontinent Independent System Operator, Inc.

Description: § 205(d) Rate Filing: 2015-11-24_SA 2872 Montana Dakota-Montana Dakota GIA (J405) to be effective 11/25/2015.

Filed Date: 11/24/15.

Accession Number: 20151124-5220.

Comments Due: 5 p.m. ET 12/15/15.

Take notice that the Commission received the following electric securities filings:

Docket Numbers: ES16-5-000.

Applicants: Baltimore Gas and Electric Company.

Description: Supplement to October 30, 2015 Application of Baltimore Gas and Electric Company Under Section 204 of the Federal Power Act for Authorization of the Issuance Securities.

Filed Date: 11/24/15.

Accession Number: 20151124-5224.

Comments Due: 5 p.m. ET 12/4/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 24, 2015.
Nathaniel J. Davis, Sr.,
Deputy Secretary.

[FR Doc. 2015-30396 Filed 11-30-15; 8:45 am]

BILLING CODE 6717-01-P